DEPARTMENT OF AGRICULTURE

Submission for OMB Review; Comment Request

October 18, 2021.

The Department of Agriculture has submitted the following information collection requirement(s) to OMB for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques and other forms of information technology.

Comments regarding this information collection received by November 22, 2021 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Forest Service

Title: National Woodland Owner Survey.

OMB Control Number: 0596-0078.

Summary of Collection: The Forest and Rangeland Renewable Resources Planning Act of 1974 (Pub. L. 93-278 Sec. 3) and the Forest and Rangeland Renewable Resources Research Act of 1978 (Pub. L. 307 Sec. 3) are the legal authorities for conducting the National Woodland Owner Survey. There are an estimated 823 million acres of forestland across the United States. Of this forestland, over half is owned by millions of corporations, families, individuals, and other private groups. Understanding the attitudes and behaviors of these private ownerships is critical for understanding the current and future state of the nation's forests. The Forest Service conducts the National Woodland Owner Survey (NWOS) to increase our understanding of:

• Who owns and manages the forestland of the United States;

• Why they own/manage it;

• How they have used it; and

• How they intend to use it.

This information is used by policy analysts, foresters, educators, and researchers to facilitate planning and implementation of forest policies and programs.

The Forest Service's direction and authority to conduct the NWOS is from the Resources Planning Act of 1974 and the Forest and Rangeland Renewable Resources Research Act of 1978. These acts assign responsibility for inventory and assessment of forest and related renewable resources to the Secretary of Agriculture, and these responsibilities are subsequently delegated to the Forest Service. Additionally, the importance of an ownership survey in this inventory and assessment process has been highlighted in the 2014 Farm Bill, the Agricultural Research, Extension, and Education Reform Act of 1998, and the recommendations of the 1998 Second Blue Ribbon Panel on the Forest Inventory and Analysis program. Previous iterations of the NWOS were conducted in 1978, 1993, 2002-2006, 2011-2013, and 2017-2018. Data collection for the current iteration is planned for 2019-2023. Initial approval for the current data collection cycle of the NWOS expires on October 31, 2021. If renewed, the current NWOS data collection cycle will be completed in 2023.

Need and Use of the Information: The NWOS will utilize a mixed-mode survey technique involving cognitive interviews, focus groups, self-administered questionnaires, and telephone interviews. Cognitive interviews will be used to test specific questions. Focus groups will be used to provide more in-depth understanding of the responses and to explore new areas of inquiry. This information collection will generate scientifically-based, statistically-reliable, up-to-date information about the owners of forestland in the United States. Results of these efforts will provide more reliable information on this important and dynamic segment of the United States population, thus facilitating more complete assessments of the country's forestland resources and improved planning and implementation of forestry programs on state, regional, and national levels.

Description of Respondents: Individuals or households; Business or other for-profit; State, Local or Tribal Government.

Number of Respondents: 3,558.

Frequency of Responses: Reporting: Annual.

Total Burden Hours: 2,118.

Forest Service

Title: Volunteer Application and Agreement for Natural and Cultural Resource Agencies.

OMB Control Number: 0596-0080.

Summary of Collection: The Volunteer Act of 1972, (Pub. L. 92-300), as amended, authorizes Federal land management agencies to use volunteers and volunteer organizations to plan, develop, maintain and manage, where appropriate, trails and campground facilities, improve wildlife habitat, and perform other useful and important conservation services throughout the Nation. Participating agencies in Department of Agriculture: Forest Service and National Resources Conservation Service; Department of the Interior: National Park Service, Fish and Wildlife Service, Bureau of Land Management, Bureau of Reclamation, Bureau of Indian Affairs, Office of Surface Mining Reclamation and Enforcement, and U.S. Geological Survey; Department of Defense: U.S. Army Corps of Engineers and Department of Commerce: National Oceanic and Atmospheric; Administration—Office of National Marine Sanctuaries. Agencies will collect information using Common Forms OF 301—Volunteer Service Application; OF 301a Volunteer Service Agreement and OF 301b Volunteer Service Agreement and Sign-up Form for Groups.

Need and Use of the Information: Agencies will collect the names, addresses, and certain information about individuals who are interested in public service as volunteers. The information is used by the agencies as a position application, to review and determine if a potential volunteer is a good fit for a particular volunteer position. The OF-301a is used to enroll volunteers, collect contact information, parent or guardian approval, describe duties, project locations, schedules and any reimbursements, describe safety requirements and delineate any other terms of service. The OF-301b form is used to record the name and contact information of the volunteer group, and the names and signatures of volunteers participating in a project. If the information is not collected, participating natural resource agencies will be unable to recruit and/or screen volunteer applicants or administer/run volunteer programs that are crucial to assisting these agencies in fulfilling their missions.

Description of Respondents: Individuals or households.

Number of Respondents: 125,000.

Frequency of Responses: Reporting: Annually.

Total Burden Hours: 500,000.

Levi S. Harrell,
Departmental Information Collection Clearance Officer.

[FR Doc. 2021-22971 Filed 10-20-21; 8:45 am]

BILLING CODE 3411-15-P